DEPARTMENT OF THE INTERIOR

Bureau of Land Management

[LLNVC02000 L57000000.BX0000; 241A; MO# 4500132166]

Notice of Temporary Closure of Public Land in Washoe County, Nevada

AGENCY: Bureau of Land Management, Interior.

ACTION: Notice of temporary closure.

SUMMARY: As authorized under the provisions of the Federal Land Policy and Management Act of 1976, et seq., the Bureau of Land Management (BLM) is issuing a temporary closure to restrict all public use on certain public land, roads, routes and trails located near Stead, Nevada, for public safety during the Reno Air Racing Association's annual Pylon Racing Seminar events and National Championship Air Races events authorized by a Special Recreation Permit (SRP). The temporary closure is in effect for the Pylon Racing Seminar events which take place annually during a five-day period at the beginning of June, and the National Championship Air Races which take place annually during a nine-day period in September. The temporary closures will take place during these periods of time every year from 2019 to 2023.

DATES: The dates for the temporary closures for the Pylon Racing Seminars and the National Championship Air Races will be posted at the Carson City District Office and on the BLM website at the addresses provided below every year at least 30 days prior to the events. The dates are also available upon request.

The closure takes effect upon date of issuance of the SRP and shall remain in effect for the duration of the Reno Air Racing Association's SRP, which will expire on September 31, 2023.

FOR FURTHER INFORMATION CONTACT: Victoria Wilkins, (775) 885-6000, email: vwilkins@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The purpose of the temporary closure is to provide for public safety and to ensure that the Reno Air Racing Association can meet Federal Aviation Administration (FAA) requirements for air shows which require spectators to be a certain distance away from the course. A portion of the race course occurs over public lands and there is potential for fallout of planes or plane parts in the event of an accident. This temporary closures apply to all public use, including motorized and non-motorized recreation, casual use, access through public lands, or entry for any other purposes. The public lands affected by the closures are described as follows:

Mount Diablo Meridian, Nevada

T. 21 N., R. 19 E.,

Sec. 8, E½ NE¼, NW¼NE¼, and E½SE¼;

Sec. 16, SW¼SW¼NE¼, NW¼, and W½SE¼.

The areas described aggregate 450 acres, in Washoe County, Nevada.

Temporary closure notices and maps of the closure areas will be posted at the BLM Nevada State Office, 1340 Financial Boulevard, Reno, Nevada, at the BLM Carson City District Office, 5665 Morgan Mill Road, Carson City, Nevada, and on the BLM website: http://www.blm.gov. Public notification will be provided during the scheduled events and the temporary closure areas will be posted and patrolled by law enforcement. Under the authority of Section 303(a) of the Federal Lands Policy and Management Act of 1976 (43 U.S.C. 1733(a)), 43 CFR 8360.0-7 and 43 CFR 8364.1, the BLM will enforce the following rules in the area described above: All public use and entry, whether motorized, on foot, or otherwise, is prohibited.

Exceptions: Temporary closure restrictions do not apply to event officials, medical and rescue personnel, law enforcement, agency personnel monitoring the event, or other permitted users with written authorization from the authorized officer.

Penalties: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 U.S.C. 1733(a), 43 CFR 8360.0-7 and 43 CFR 8364.1.

Victoria Wilkins,
Acting Field Manager, Sierra Front Field Office.

[FR Doc. 2019-13966 Filed 6-28-19; 8:45 am]

BILLING CODE 4310-HC-P